DEPARTMENT OF JUSTICE

Notice of Lodging of Proposed Consent Decree Under the Comprehensive Environmental Response, Compensation and Liability Act

On November 15, 2021, the Department of Justice lodged a proposed consent decree with the United States District Court for the Eastern District of North Carolina in the lawsuit entitled United States v. Armstrong World Industries, Inc. (on behalf of Armstrong Wood Products, Inc.), VIACOMCBS, and TCOM, L.P., Civil Action No. 2:21-cv-00047-FL.

The United States filed this lawsuit under the Comprehensive Environmental Response, Compensation, and Liability Act (CERCLA). The United States' complaint names Armstrong World Industries, Inc. (on behalf of Armstrong Wood Products, Inc.), VIACOMCBS, and TCOM, L.P., as defendants. The complaint requests recovery of costs that the United States incurred responding to releases of hazardous substances at the Triangle Pacific Corporation Site in Pasquotank County, North Carolina. The complaint also seeks injunctive relief.

The proposed consent decree would partially resolve the claims in the complaint. Armstrong World Industries, Inc., and VIACOMCBS, as Performing Settling Defendants, agree under the decree to perform the interim remedial action that EPA selected for the Site. TCOM, L.P. agrees under the decree to provide access to portions of the Site for performance of the interim remedial action. Performing Settling Defendants agree under the decree to deposit $590,146.23 into a funded trust. The United States, on behalf of the Department of Defense, as Settling Federal Agency, agrees to deposit $763,002.77 into the trust. The United States, on behalf of Settling Federal Agency, also agrees to reimburse EPA for $469,928.07 in past response costs. The Performing Settling Defendants agree to pay EPA its future response costs, and the United States, on behalf of Settling Federal Agency, agrees to reimburse Performing Settling Defendants for the Settling Federal Agency's share of response costs, as provided in the proposed consent decree, and in a separate Site Participation Agreement entered into among the settling defendants and the United States contemporaneously with the proposed consent decree. The United States agrees under the decree not to sue the settling defendants under sections 106 and 107 of CERCLA.

The publication of this notice opens a period for public comment on the proposed consent decree. Comments should be addressed to the Assistant Attorney General, Environment and Natural Resources Division, and should refer to United States v. Armstrong World Industries, Inc., et al., D.J. Ref. No. 90-11-3-12058. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $103.50 (414 pages at 25 cents per page reproduction cost) payable to the United States Treasury. For a paper copy of the proposed consent decree without the exhibits, the cost is $10.75 (43 pages).

Lori Jonas,
Assistant Section Chief, Environmental Enforcement Section, Environment and Natural Resources Division.

[FR Doc. 2021-25555 Filed 11-22-21; 8:45 am]

BILLING CODE 4410-15-P